CORPORATION FOR NATIONAL AND COMMUNITY SERVICE

45 CFR Parts 2551, 2552, and 2553

RIN 3045-AA81

AmeriCorps Seniors Regulation Updates

AGENCY: Corporation for National and Community Service.

ACTION: Proposed rule with request for comments.

SUMMARY: The Corporation for National and Community Service (operating as AmeriCorps) proposes to revise its regulations governing AmeriCorps Seniors programs. This proposed rule would remove barriers to service for individuals and increase flexibility for sponsors to determine the best mix of staffing and resources to accomplish project goals. Specifically, this proposed rule would remove barriers for individuals to serve as AmeriCorps Seniors volunteers in three ways: first, by limiting what is considered income in the calculation that determines eligibility to receive a stipend; second, by allowing volunteers to continue to receive a stipend when their sponsor places them on administrative leave due to extenuating circumstances that prevent service; and third, by allowing sponsors to supplement stipends. This proposed rule would increase flexibility for AmeriCorps Seniors sponsors in three ways: first, by removing the prescriptive requirement for them to employ a full-time project director; second, by establishing a single 10 percent match value regardless of grant year; and third, by allowing sponsors to choose to pay more than (but not less than) the AmeriCorps-established stipend rates using non-AmeriCorps funds for the amount exceeding the AmeriCorps-established rate. These proposed changes would allow sponsors to determine the best staffing and volunteer mix to support projects and how to devote resources that would otherwise be devoted to meet increasingly high match requirements. This proposed rule would also update nomenclature to reflect that the Corporation for National and Community Service operates as AmeriCorps and that “Senior Corps” is now known as “AmeriCorps Seniors.”

DATES: Written comments must be submitted by April 15, 2024.

ADDRESSES: You may send your comments electronically through the Federal Government's one-stop rulemaking website at www.regulations.gov. You may also send your comments to Elizabeth Appel, Associate General Counsel, at eappel@americorps.gov or by mail to AmeriCorps (ATTN: Elizabeth Appel), 250 E Street SW, Washington, DC 20525.

FOR FURTHER INFORMATION CONTACT: Robin Corindo, Deputy Director, AmeriCorps Seniors, at rcorindo@americorps.gov, (202) 489-5578.

SUPPLEMENTARY INFORMATION:

I. Background

AmeriCorps Seniors operates four programs: the Senior Companion Program (SCP), Foster Grandparent Program (FGP), Retired and Senior Volunteer Program (RSVP), and a Senior Demonstration Program. This proposed rule would affect regulations implementing the first three programs. These programs are authorized by the Domestic Volunteer Service Act of 1973, as amended, 42 U.S.C. 4950 et seq., and this rulemaking is authorized by the National and Community Service Act of 1990, as amended, 42 U.S.C. 12501 et seq.

AmeriCorps Seniors SCP and FGP each provide grants to qualified agencies and organizations (known as grantees or sponsors) for the dual purpose of engaging persons 55 and older, particularly those with limited incomes, in volunteer service to meet critical community needs and to provide a high-quality experience that will enrich the lives of the volunteers. In SCP, program funds are used to support Senior Companions in providing supportive, individualized services to help older adults with special needs maintain their dignity and independence. They also serve caregivers with respite support. In FGP, program funds are used to support Foster Grandparents in providing supportive, person-to-person service to children with special and/or exceptional needs, or in circumstances that limit their academic, social, or emotional development. In SCP and FGP (but not RSVP), volunteers who are “low income” (meaning their income is at or below 200 percent of the poverty line) may receive stipends to allow them to serve without cost to themselves. See 42 U.S.C. 5011(d)-(e), 5013(b).

In SCP, FGP, and RSVP, the sponsor receiving the grant has several responsibilities. Among them is the responsibility to provide staff sufficient to support the project. Another is the responsibility to raise “match,” meaning non-AmeriCorps cash and in-kind contributions in support of the grant. The match amount is stated as a percentage of the total project cost. For both SCP and FGP, the match required of sponsors is 10 percent, meaning the AmeriCorps grant funds 90 percent of the total project cost. See 42 U.S.C. 5011(a), 5013(a). For RSVP, the statute limits match to be no more than 10 percent in the first year, 20 percent in the second year, and 30 percent in subsequent years. See 42 U.S.C. 5001(b). In other words, the statute provides upper limits (tiered by year) on what RSVP sponsors may be required to provide as match. The current RSVP regulations, however, state these upper limits as requirements for sponsors to provide match at 10 percent in the first year, 20 percent in the second year, and 30 percent in subsequent years by limiting AmeriCorps' contributions to 90 percent in the first year, 80 percent in the second year, and 70 percent in subsequent years. See 45 CFR 2553.72.

Additionally, in SCP and FGP, AmeriCorps Seniors volunteers are offered a stipend for their service. The statute sets a minimum hourly rate for the stipend. See 42 U.S.C. 5011(d), 5013(b). AmeriCorps Seniors establishes the stipend rate annually through the Notice of Funding Opportunity; currently, the stipend rate is $4.00 per service hour. The current SCP and FGP regulations provide that a sponsor must pay the stipend rate that AmeriCorps establishes and offers no flexibility to sponsors who may have additional funding available to supplement the stipend.

II. Overview of Proposed Rule

This proposed rule would update AmeriCorps Seniors regulations implementing the SCP, FGP, and RSVP. The proposed updates to the SCP and FGP regulations, at Code of Federal Regulations (CFR) parts 2551 and 2552, respectively, parallel each other and would include changes to simplify provisions on calculation of an AmeriCorps volunteer's income for the purposes of determining whether they are eligible for a stipend and would remove certain items from being considered as income. The proposed updates to SCP and FGP regulations would also specify that volunteers receiving a stipend may be paid the stipend when the sponsor places them on administrative leave due to extenuating circumstances preventing service. The updates would also allow sponsors to pay stipends at a higher rate than that established by AmeriCorps Seniors, if they choose to do so, and as long as they use funds other than AmeriCorps grant funds to pay for the amount above the established stipend rate. The proposed updates to all three SCP, FGP, and RSVP regulations (CFR parts 2551 through 2553) would replace the requirement for sponsors to employ a full-time project director with a requirement for sufficient staffing to support the size, scope, and quality of project operations.

The updates to the RSVP regulations at part 2553 would also change the level of non-AmeriCorps support (“match”) that an RSVP sponsor must provide. Currently, the regulations allow AmeriCorps to grant up to 90 percent of the total RSVP project cost in the first year, but only 80 percent in the second year and 70 percent in the third and successive years. As a result, the matching funds a sponsor must provide are currently 10 percent of the total project cost in the first year and increase to 20 percent in the second year and 30 percent in successive years. The proposed rule would instead establish a single required match rate at 10 percent, regardless of the grant year.

Lastly, this proposed rule would make nomenclature changes to add a definition for “AmeriCorps” and change references to the “Corporation” and “CNCS” to “AmeriCorps” throughout these regulations to reflect that the Corporation for National and Community Service now operates as AmeriCorps. This proposed rule would also change “National Service Senior Corps (NSSC)” to “AmeriCorps Seniors” to reflect current terminology and branding.

Each of the substantive changes is described in more detail below.

A. Income Calculation—SCP (§§ 2551.12, 2551.43, and 2551.44); FGP (§§ 2552.12, 2552.43, and 2552.44)

The current regulations address an SCP and FGP volunteer's income in three sections: the definition of “annual income” (at §§ 2551.12 and 2552.12, respectively); the income guidelines governing eligibility to serve as a stipended volunteer (at §§ 2551.43 and 2552.43, respectively); and the categories of “income” for determining eligibility (at §§ 2551.44 and 2552.44, respectively). Currently, the definition of “annual income” and the sections addressing eligibility guidelines and the determination of “income” each contain components for the calculation of income. The proposed rule would streamline these sections so that the definition sets out only that the time period for calculation of annual income is 12 months, and all the components for the calculation of income are contained in one section each for SCP and FGP. Substantively, these changes would remove several items from being included in the calculation of a volunteer's income, including:

• The value of shelter, food, and clothing if provided at no cost by relatives of the volunteer or volunteer's spouse;

• Strike benefits;

• Training stipends; and

• Regular support that is not legally required from an absent family member or someone not living in the household.

As a result, when examining a volunteer's income to determine eligibility for a stipend under this proposal, AmeriCorps Seniors would look only at the volunteer's income (and spouse's income if the spouse lives in the same residence) without considering the value of any shelter, food, or clothing the volunteer's relatives are providing the volunteer or any other regular but not legally required support that an absent relative (or someone else not living in the household) is choosing to provide to the volunteer. The proposal would remove strike benefits and training stipends as categories to be considered in calculating income because volunteers rarely such benefits and stipends and their removal supports modernization of the regulations. These changes also simplify what is considered income by focusing solely on the volunteer's own income and resident spouse's income, rather than other relatives, and removes the necessity of collecting paperwork from the individuals volunteering.

AmeriCorps expects these changes would simplify the determination of whether someone is eligible to serve as a stipended FGP or SCP volunteer and remove barriers to those individuals to serve in FGP and SCP. These changes will also support AmeriCorps Seniors programs' ability to recruit and retain volunteers, rebuild volunteer numbers to pre-COVID-19 levels, and reduce relinquishment of FGP and SCP programs that result from difficulties recruiting eligible volunteers. Ultimately, this anticipated increase in AmeriCorps Seniors volunteers in SCP and FGP will allow more community needs to be met.

B. Administrative Leave—SCP (§§ 2551.23(i) and 2551.46(a)); FGP (§§ 2552.23(i) and 2552.46(a))

Currently, the regulations governing SCP and FGP are silent as to whether AmeriCorps Seniors volunteers who receive a stipend for their service and earned leave may also receive a stipend for administrative leave. The proposed rule would specify that stipended volunteers may be paid administrative leave and would require sponsors to establish written service policies to address administrative leave. While sponsors may define the specifics of administrative leave, the proposed rule identifies administrative leave as a temporary absence the sponsor allows in extenuating circumstances that prevent the volunteer from serving, or serving safely. The rulemaking would require AmeriCorps' approval to pay the stipend for administrative leave after the seventh calendar day of extenuating circumstances. An example of a circumstance justifying administrative leave would be flooding at a client's home.

This proposed change allows SCP and FGP grantees to grant administrative leave to their volunteers in those unusual and rare situations that prevent a volunteer, through no fault of their own, from serving at their volunteer station, as long as the grantee's program policies permit administrative leave in such situations. Many dedicated AmeriCorps Seniors volunteers in SCP and FGP rely upon the stipend to supplement their limited incomes so they can pay for things like medicine and groceries. This proposed change would ensure that these volunteers are not penalized by having their stipends withheld for being unable to serve due to extenuating circumstances (as defined in the program's policy).

C. Allowing Sponsors To Pay Higher Stipends—SCP (§ 2551.92(e)); FGP (§ 2552.92(e))

The current SCP and FGP regulations prohibit sponsors from paying stipends at rates different from those established by AmeriCorps. This restriction is not compelled by statute, as the DVSA establishes only a minimum stipend rate ($3.00 per hour). Earlier versions of the regulation had similar language stating that AmeriCorps Seniors volunteers in SCP and FGP “will receive a stipend in an amount determined by [AmeriCorps] . . . The minimum amount of the stipend is set by law and may be adjusted by the Director from time to time.” See 45 CFR 1207.3-5(c)(5) and 1208.3-5(c)(5) (10-1-96 edition). However, these earlier versions explicitly allowed for stipend payments in excess of the amount established by AmeriCorps (then “ACTION”) and provided that the excess amount could not be included as part of the local support commitment (match). See 45 CFR 1207.2-2 and 1208.2-2 (10-1-96 edition). When these prior versions of the rules were updated and moved from chapter XII (parts 1207 and 1208) to chapter XXV (parts 2551 and 2552) in title 45 of the CFR, the provisions regarding stipend payments in excess of the AmeriCorps-established amount were omitted without explanation. See SCP proposed rule at 63 FR 46954 (September 3, 1998) and final rule at 64 FR 14113 (March 24, 1999) and FGP proposed rule at 63 FR 46963 (September 3, 1998) and final rule at 64 FR 14123 (March 24, 1999). AmeriCorps determined this allowance should be reinstituted so that sponsors may pay volunteers a stipend at a rate higher than the AmeriCorps-established rate should they have the desire and funding to do so. In contrast to the prior versions of the rule, the proposed rule would allow sponsors to use funds with which they supplement the stipend to count toward required match contributions. Sponsors' supplementation of volunteers' stipends must comply with anti-discrimination and other laws.

The proposed flexibility for supplementing stipends would help sponsors to recruit and retain volunteers by improving the feasibility of service for low-income volunteers whose costs of serving exceed the AmeriCorps-established stipend rate. This flexibility would also allow for sponsors to account for things like higher costs of living in providing their volunteers with stipends, by using their grantee (non-AmeriCorps) share funds to add on to the single stipend rate that AmeriCorps establishes for the entire country. The current regulation, which restricts all volunteers to the AmeriCorps-established stipend rate, prevents sponsors from adjusting their benefits to account for the needs of volunteers in their local communities. Under the proposed rule, AmeriCorps would continue to establish stipend rates and comply with the statutory minimum for stipend rates, but sponsors would have the flexibility to supplement the rate with their non-AmeriCorps funds.

D. Removing the Requirement for a Full-Time Project Director—SCP (§ 2551.25(c)); FGP (§ 2552.25(c)); RSVP (§ 2553.25(c))

The current SCP, FGP, and RSVP regulations all require a sponsor to employ a full-time project director to accomplish project objectives and manage functions and project activities, except in a limited circumstance where the sponsor may negotiate with AmeriCorps for permission to instead employ a part-time project director. That circumstance is when the sponsor has demonstrated to AmeriCorps that having only a part-time project director will not adversely affect the size, scope, or quality of project operations. The proposed rule would replace these prescriptive requirements with a more results-focused requirement that sponsors employ project staff sufficient to support the size, scope, and quality of project operations. In the application, the sponsor must thoroughly outline their management plan to describe how each project director duty will be fulfilled. At the time of renewal, program structure will be evaluated based on performance measures. This proposed change would provide sponsors with the flexibility to determine their own appropriate mix of staffing to support the project.

E. Establishing a Single, 10 Percent Match, Regardless of Year—RSVP (§ 2553.72)

The statute limits how much funding RSVP sponsors must provide as match to be no more than 10 percent in the first year, 20 percent in the second year, and 30 percent in subsequent years. See 42 U.S.C. 5001(b). In other words, the statute provides upper limits (tiered by year) on what RSVP sponsors may be required to provide as match. In contrast, the current RSVP regulations convert these upper limits into requirements for sponsors to provide match at 10 percent in the first year, 20 percent in the second year, and 30 percent in subsequent years. See 45 CFR 2553.72. Specifically, the current regulation provides that AmeriCorps grants may fund up to 90 percent of the total project cost in the first year, leaving the sponsor responsible for 10 percent of the total project cost through locally generated contributions. The current regulation then decreases the level of funding AmeriCorps may provide to 80 percent (consequently increasing the sponsor's responsibility to 20 percent) in the second year, and further decreases AmeriCorps' contribution to 70 percent (consequently increasing the sponsor's responsibility to 30 percent) in the third year and beyond. The proposed rule would revise this approach to instead provide RSVP parity with the FGP and SCP programs, which each require 10 percent match regardless of year. For grantees that have RSVP programs and FGP and/or SCP programs, this proposal would allow them to have consistent policies across all their programs and reduce the burden of raising and reporting an increased match amount for just one of their programs. This proposed change in required match is not expected to impact the quality of services provided to communities by the program because all program expectations would remain the same under the proposal.

III. Regulatory Analyses

A. Executive Orders 12866 and 13563

Executive Orders 12866 and 13563 direct agencies to assess all costs and benefits of available regulatory alternatives, and if regulation is necessary, to select regulatory approaches that maximize net benefits (including potential economic, environmental, public health and safety effects, distributive impacts, and equity). Executive Order 13563 emphasizes the importance of quantifying both costs and benefits, reducing costs, harmonizing rules, and promoting flexibility. The Office of Information and Regulatory Affairs in the Office of Management and Budget determined this proposed rule is not a significant regulatory action.

B. Regulatory Flexibility Act

As required by the Regulatory Flexibility Act of 1980 (5 U.S.C. 601 et seq.), AmeriCorps certifies that this rule, if adopted, will not have a significant economic impact on a substantial number of small entities. While many grantees are small governmental jurisdictions or not-for-profit enterprises that may qualify as small entities, the economic effect of this proposed rule on those small entities is minimal. Therefore, AmeriCorps has not performed the initial regulatory flexibility analysis that is required under the Regulatory Flexibility Act (5 U.S.C. 601 et seq.) for rules that are expected to have such results.

C. Unfunded Mandates Reform Act of 1995

For purposes of title II of the Unfunded Mandates Reform Act of 1995, 2 U.S.C. 1531-1538, as well as Executive Order 12875, this regulatory action does not contain any federal mandate that may result in increased expenditures in Federal, State, local, or Tribal Governments in the aggregate, or impose an annual burden exceeding $100 million on the private sector.

D. Paperwork Reduction Act

Under the Paperwork Reduction Act, an agency may not conduct or sponsor a collection of information unless the collections of information display valid control numbers. This proposed rule does not affect any information collections.

E. Executive Order 13132, Federalism

Executive Order 13132, Federalism, prohibits an agency from publishing any rule that has federalism implications if the rule imposes substantial direct compliance costs on state and local governments and is not required by statute, or the rule preempts state law, unless the agency meets the consultation and funding requirements of section 6 of the Executive order. This rulemaking does not have any federalism implications, as described above.

F. Takings (Executive Order 12630)

This proposed rule does not affect a taking of private property or otherwise have taking implications under Executive Order 12630 because this proposed rule does not affect individual property rights protected by the Fifth Amendment or involve a compensable “taking.” A takings implication assessment is not required.

G. Civil Justice Reform (Executive Order 12988)

This proposed rule complies with the requirements of Executive Order 12988. Specifically, this rulemaking: (a) meets the criteria of section 3(a) requiring that all regulations be reviewed to eliminate errors and ambiguity and be written to minimize litigation; and (b) meets the criteria of section 3(b)(2) requiring that all regulations be written in clear language and contain clear legal standards.

H. Consultation With Indian Tribes (Executive Order 13175)

AmeriCorps recognizes the inherent sovereignty of Indian tribes and their right to self-governance. We have evaluated this rulemaking under the agency's consultation policy and the criteria in Executive Order 13175 and determined that this proposed rule does not impose substantial direct effects on federally recognized tribes.

I. Clarity of This Regulation

We are required by Executive Orders 12866 (section 1(b)(12)), and 12988 (section 3(b)(1)(B)), and 13563 (section 1(a)), and by the Presidential Memorandum of June 1, 1998, to write all rules in plain language. This means that each proposed rule we publish must: (a) be logically organized; (b) use the active voice to address readers directly; (c) use clear language rather than jargon; (d) be divided into short sections and sentences; and (e) use lists and tables wherever possible. If you feel that we have not met these requirements, please send us comments by one of the methods listed in the ADDRESSES section. To help us revise the rule, your comments should be as specific as possible.

List of Subjects in 45 CFR Parts 2551, 2552, and 2553

Aged, Grant programs—social programs, Volunteers.

For the reasons stated in the preamble, under the authority of 42 U.S.C. 12651c(c), the Corporation for National and Community Service is proposing to amend chapter XXV, title 45 of the Code of Federal Regulations as follows:

PART 2551—SENIOR COMPANION PROGRAM

1. The authority citation for part 2551 continues to read as follows:

Authority: 42 U.S.C. 4950 et seq.; 42 U.S.C. 12651b-12651d; E.O. 13331, 69 FR 9911.

2. In § 2551.12:

a. Revise the definition of “Adequate staffing level”;

b. Add in alphabetical order the definitions of “AmeriCorps” and “AmeriCorps Seniors”;

c. Revise the definition of “Annual income”; and

d. Remove the definitions of “CNCS” and “National Senior Service Corps (NSSC)”.

The revisions and additions read as follows:

§ 2551.12 Definitions.

* * * * *

Adequate staffing level. The number of project staff or full-time equivalent needed by a sponsor to manage the AmeriCorps Seniors project operations considering such factors as: Number of budgeted Volunteer Service Years (VSYs), number of volunteer stations, and the size of the service area.

* * * * *

AmeriCorps. The Corporation for National and Community Service, established pursuant to section 191 of the National and Community Service Act of 1990, as amended, 42 U.S.C. 12651, which operates as AmeriCorps.

AmeriCorps Seniors. The collective name for the Senior Companion Program (SCP), the Foster Grandparent Program (FGP), the Retired and Senior Volunteer Program (RSVP), and Senior Demonstration Programs, all of which are established under parts A, B, C, and E, title II of the Act.

Annual income. The applicant or enrollee's total income for the preceding 12 months, including the applicant or enrollee's spouse's income, if the spouse lives in the same residence, as calculated in § 2551.44.

* * * * *

3. In § 2551.23, redesignate paragraphs (i)(2) through (5) as paragraphs (i)(3) through (6) and add new paragraph (i)(2) to read as follows:

§ 2551.23 What are a sponsor's project responsibilities?

* * * * *

(i) * * *

(2) Administrative leave, meaning a temporary absence the sponsor allows in extenuating circumstances that prevent the Senior Companion from serving or serving safely.

* * * * *

4. In § 2551.25, revise paragraphs (c) and (h) to read as follows:

§ 2551.25 What are a sponsor's administrative responsibilities?

* * * * *

(c) Employ project staff, including a project director, to accomplish project objectives and manage the functions and activities delegated to project staff for AmeriCorps Seniors project(s) within its control. The project director may participate in activities to coordinate project resources with those of related local agencies, boards, or organizations. Staffing must be sufficient to support the size, scope, and quality of project operations.

* * * * *

(h) Comply with, and ensure that Memorandums of Understanding require all volunteer stations to comply with, all applicable civil rights laws and regulations, including non-discrimination based on disability.

5. Revise the heading for subpart C to read as follows:

Subpart C—Suspension and Termination of AmeriCorps Assistance

6. In § 2551.43, revise paragraph (b) to read as follows:

§ 2551.43 What income guidelines govern eligibility to serve as a stipended Senior Companion?

* * * * *

(b) For applicants to become stipended Senior Companions, income is based on annual income at the time of application. For serving stipended Senior Companions, annual income is counted for the past 12 months. Annual income includes the applicant or enrollee's income and that of his/her spouse, if the spouse lives in the same residence, as calculated in § 2551.44.

* * * * *

7. In § 2551.44, revise paragraph (a)(3) to read as follows:

§ 2551.44 What is considered income for determining volunteer eligibility?

(a) * * *

(3) Social Security, Unemployment or Workers Compensation, alimony, and military family allotments, or other legally required financial support from an absent family member or someone not living in the household.

* * * * *

8. In § 2551.46, revise paragraph (a) to read as follows:

§ 2551.46 What cost reimbursements are provided to Senior Companions?

* * * * *

(a) Stipend. The stipend is paid for the time Senior Companions spend with their assigned clients, for earned leave, for administrative leave, and for attendance at official project events. The sponsor may pay a stipend for administrative leave for extenuating circumstances lasting up to seven calendar days but must obtain AmeriCorps' written approval to pay a stipend for administrative leave based on extenuating circumstances lasting beyond seven calendar days.

* * * * *

9. In § 2551.92, revise paragraph (e) to read as follows:

§ 2551.92 What are project funding requirements?

* * * * *

(e) May a sponsor pay stipends at rates different than those established by AmeriCorps? A sponsor must pay stipends at rates no less than the rate established by AmeriCorps. A sponsor may use non-AmeriCorps funding to pay stipends at rates higher than the rate established by AmeriCorps, but may not use AmeriCorps funding for this purpose.

10. In § 2551.121, revise paragraph (c)(1) to read as follows:

§ 2551.121 What legal limitations apply to the operation of the Senior Companion Program and to the expenditure of grant funds?

* * * * *

(c) * * *

(1) An agency or organization to which AmeriCorps Seniors volunteers are assigned or which operates or supervises any AmeriCorps Seniors program shall not request or receive any compensation from AmeriCorps Seniors volunteers, or from beneficiaries, for the services provided by AmeriCorps Seniors volunteers.

* * * * *

§ § 2551.12 through 2551.122 [Amended]

11. In addition to the amendments set forth above, in §§ 2551.12 through 2551.122:

a. Remove the word “CNCS” and add in its place the word “AmeriCorps”, wherever it appears; and

b. Remove the word “non-CNCS” and add in its place the word “non-AmeriCorps”, wherever it appears.

PART 2552—FOSTER GRANDPARENT PROGRAM

12. The authority for part 2552 continues to read as follows:

Authority: 42 U.S.C. 4950 et seq.; 42 U.S.C. 12651b-12651d; E.O. 13331, 69 FR 9911.

13. In § 2552.12:

a. Revise the definition of “Adequate staffing level”;

b. Add in alphabetical order the definitions of “AmeriCorps” and “AmeriCorps Seniors”;

c. Revise the definition of “Annual income”; and

d. Remove the definitions of “CNCS” and “National Senior Service Corps (NSSC)”.

The revisions and additions read as follows:

§ 2552.12 Definitions.

* * * * *

Adequate staffing level. The number of project staff or full-time equivalent needed by a sponsor to manage the AmeriCorps Seniors project operations considering such factors as: Number of budgeted Volunteer Service Years (VSYs), number of volunteer stations, and the size of the service area.

AmeriCorps. The Corporation for National and Community Service, established pursuant to section 191 of the National and Community Service Act of 1990, as amended, 42 U.S.C. 12651, which operates as AmeriCorps.

AmeriCorps Seniors. The collective name for the Senior Companion Program (SCP), the Foster Grandparent Program (FGP), the Retired and Senior Volunteer Program (RSVP), and Senior Demonstration Programs, all of which are established under parts A, B, C, and E, title II of the Act.

Annual income. The applicant or enrollee's total income for the preceding 12 months, including the applicant or enrollee's spouse's income, if the spouse lives in the same residence, as calculated in § 2551.44.

* * * * *

14. In § 2552.23, redesignate paragraphs (i)(2) through (5) as paragraphs (i)(3) through (6) and add new paragraph (i)(2) to read as follows:

§ 2552.23 What are a sponsor's project responsibilities?

* * * * *

(i) * * *

(2) Administrative leave, meaning a temporary absence the sponsor allows in extenuating circumstances that prevent the Foster Grandparent from serving or serving safely.

* * * * *

15. In § 2552.25, revise paragraphs (c) and (h) to read as follows:

§ 2552.25 What are a sponsor's administrative responsibilities?

* * * * *

(c) Employ project staff, including a project director, to accomplish project objectives and manage the functions and activities delegated to project staff for AmeriCorps Seniors project(s) within its control. The project director may participate in activities to coordinate project resources with those of related local agencies, boards, or organizations. Staffing must be sufficient to support the size, scope, and quality of project operations.

* * * * *

(h) Comply with, and ensure that Memorandums of Understanding require all volunteer stations to comply with, all applicable civil rights laws and regulations, including non-discrimination based on disability.

16. Revise the heading for subpart C to read as follows:

Subpart C—Suspension and Termination of AmeriCorps Assistance

§ 2552.43 [Amended]

17. In § 2552.43, revise paragraph (b) to read as follows:

§ 2552.43 What income guidelines govern eligibility to serve as a stipended Foster Grandparent?

* * * * *

(b) For applicants to become stipended Foster Grandparents, income is based on annual income at the time of application. For serving stipended Foster Grandparents, annual income is counted for the past 12 months. Annual income includes the applicant or enrollee's income, and that of his/her spouse, if the spouse lives in the same residence, as calculated in § 2552.44.

* * * * *

18. In § 2552.44, revise paragraph (a)(3) to read as follows:

§ 2552.44 What is considered income for determining volunteer eligibility?

(a) * * *

(3) Social Security, Unemployment or Workers Compensation, alimony, and military family allotments, or other legally required financial support from an absent family member or someone not living in the household.

* * * * *

19. In § 2552.46, revise paragraph (a) to read as follows:

§ 2552.46 What cost reimbursements and benefits do sponsors provide to Foster Grandparents?

* * * * *

(a) Stipend. The stipend is paid for the time Foster Grandparents spend with their assigned children, for earned leave, for administrative leave, and for attendance at official project events. The sponsor may pay a stipend for administrative leave for extenuating circumstances lasting up to seven calendar days but must obtain AmeriCorps' written approval to pay a stipend for administrative leave based on extenuating circumstances lasting beyond seven calendar days.

* * * * *

20. In § 2552.92, revise paragraph (e) to read as follows:

§ 2552.92 What are project funding requirements?

* * * * *

(e) May a sponsor pay stipends at rates different than those established by AmeriCorps? A sponsor must pay stipends at rates no less than the rate established by AmeriCorps. A sponsor may use non-AmeriCorps funding to pay stipends at rates higher than the rate established by AmeriCorps but may not use AmeriCorps funding for this purpose.

21. In § 2552.121, revise paragraph (c)(1) to read as follows:

§ 2552.121 What legal limitations apply to the operation of the Foster Grandparent Program and to the expenditure of grant funds?

* * * * *

(c) * * *

(1) An agency or organization to which AmeriCorps Seniors volunteers are assigned or which operates or supervises any AmeriCorps Seniors program shall not request or receive any compensation from AmeriCorps Seniors volunteers, or from beneficiaries, for the services provided by AmeriCorps Seniors volunteers.

* * * * *

§§ 2552.12 through 2552.122 [Amended]

22. In addition to the amendments set forth above, in §§ 2552.12 through 2552.122:

a. Remove the word “CNCS” and add in its place the word “AmeriCorps”, wherever it appears; and

b. Remove the word “non-CNCS” and add in its place the word “non-AmeriCorps”, wherever it appears.

PART 2553—THE RETIRED AND SENIOR VOLUNTEER PROGRAM

23. The authority for part 2553 continues to read as follows:

Authority: 42 U.S.C. 4950 et seq.

24. In § 2553.12:

a. Revise the definition of “Adequate staffing level”;

b. Add in alphabetical order the definitions of “AmeriCorps” and “AmeriCorps Seniors”; and

c. Remove the definitions of “CNCS” and “National Senior Service Corps (NSSC)”.

The revision and additions read as follows:

§ 2553.12 Definitions.

* * * * *

Adequate staffing level. The number of project staff or full-time equivalent needed by a sponsor to manage the AmeriCorps Seniors project operations considering such factors as: Number of budgeted volunteers, number of volunteer stations, and the size of the service area.

AmeriCorps. The Corporation for National and Community Service, established pursuant to section 191 of the National and Community Service Act of 1990, as amended, 42 U.S.C. 12651, which operates as AmeriCorps.

AmeriCorps Seniors. The collective name for the Senior Companion Program (SCP), the Foster Grandparent Program (FGP), the Retired and Senior Volunteer Program (RSVP), and Demonstration Programs, all of which are established under parts A, B, C, and E, title II of the Act.

* * * * *

24. In § 2553.25, revise paragraphs (c) and (h) to read as follows:

§ 2553.25 What are a sponsor's administrative responsibilities?

* * * * *

(c) Employ project staff, including a project director, to accomplish project objectives and manage the functions and activities delegated to project staff for AmeriCorps Seniors project(s) within its control. The project director may participate in activities to coordinate project resources with those of related local agencies, boards, or organizations. Staffing must be sufficient to support the size, scope, and quality of project operations.

* * * * *

(h) Comply with, and ensure that Memorandums of Understanding require all volunteer stations to comply with, all applicable civil rights laws and regulations, including non-discrimination based on disability.

25. In § 2553.72, revise paragraph (a) paragraph heading and paragraphs (a)(1) and (c) to read as follows:

§ 2553.72 What are project funding requirements?

(a) Is non-AmeriCorps support required? (1) An AmeriCorps grant may be awarded to fund up to 90 percent of the total project cost.

* * * * *

(c) May AmeriCorps restrict how a sponsor uses locally generated contributions in excess of the non-AmeriCorps support required? Whenever locally generated contributions to RSVP projects are in excess of the non-AmeriCorps funds required (10 percent of the total cost), AmeriCorps may not restrict the manner in which such contributions are expended, provided such expenditures are consistent with the provisions of the Act.

* * * * *

26. In § 2553.91, revise paragraph (c)(1) to read as follows:

§ 2553.91 What legal limitations apply to the operation of the RSVP volunteer program and to the expenditure of grant funds?

* * * * *

(c) * * *

(1) An agency or organization to which AmeriCorps Seniors volunteers are assigned or which operates or supervises any AmeriCorps Seniors program shall not request or receive any compensation from AmeriCorps Seniors volunteers or from beneficiaries for services of AmeriCorps Seniors volunteers.

* * * * *

§§ 2553.12 through 2553.108 [Amended]

27. In addition to the amendments set forth above, in §§ 2552.12 through 2552.108:

a. Remove the word “CNCS” and add in its place the word “AmeriCorps”, wherever it appears; and

b. Remove the word “non-CNCS” and add in its place the word “non-AmeriCorps”, wherever it appears.

Fernando Laguarda,
General Counsel.

[FR Doc. 2024-02772 Filed 2-13-24; 8:45 am]

BILLING CODE 6050-28-P